DEPARTMENT OF THE INTERIOR

Bureau of Land Management

[A2407-014-004-065516; #O2412-014-004-047181.1]

Environmental Impact Statement, Public Hearing, and Request for Comment on Maximum Economic Recovery and Fair Market Value for the Navajo Transitional Energy Company Proposed Federal Coal Lease-by-Application for the West Antelope Mine, Campbell and Converse Counties, WY

AGENCY: Bureau of Land Management, Interior.

ACTION: Notice of availability and public hearing.

SUMMARY: In accordance with the Mineral Leasing Act of 1920, as amended by the Federal Coal Leasing Amendments Act of 1976, the Bureau of Land Management (BLM) announces that an environmental impact statement (EIS) for the West Antelope III Federal coal lease by application (LBA) is available. The EIS analyzes the Navajo Transitional Energy Company's (NTEC) Federal coal lease by application (WYW-184599) for the West Antelope Mine. The BLM also announces that a public hearing will be held to receive comments on the Maximum Economic Recovery (MER) and Fair Market Value (FMV), and on factors that may affect the MER and FMV determinations of the coal resources contained in the proposed LBA lease tracts. The BLM takes these actions in compliance with the National Environmental Policy Act of 1969, as amended; the Mineral Leasing Act, as amended; and the Federal Land Policy and Management Act of 1976, as amended.

DATES: The EIS will be available on August 22, 2025. A public hearing will be held on Wednesday, September 3, 2025, from 6 p.m. until 8 p.m. Mountain Time at the Wright Town Hall, 395 Lariat Way, Wright, Wyoming.

ADDRESSES: You may submit comments related to the MER and FEV by any of the following methods:

• Website: https://eplanning.blm.gov/eplanning-ui/project/2039704/510.

• Mail: Wyoming State Office 5353 Yellowstone Road Cheyenne, Wyoming 82009.

Documents pertinent to this proposal are available online at https://eplanning.blm.gov/eplanning-ui/project/2039704/510 and at the Wyoming State Office located at 5353 Yellowstone Road Cheyenne, Wyoming.

FOR FURTHER INFORMATION CONTACT: Alfred Elser, Wyoming BLM Deputy State Director for Minerals and Lands, telephone 307-775-6146; address 5353 Yellowstone Road Cheyenne, WY; email aelser@blm.gov.

Individuals in the United States who are deaf, deafblind, hard of hearing, or have a speech disability may dial 711 (TTY, TDD, or TeleBraille) to access telecommunications relay services for contacting Mr. Elser. Individuals outside the United States should use the relay services offered within their country to make international calls to the point-of-contact in the United States.

SUPPLEMENTARY INFORMATION: The BLM is considering issuing a coal lease as a result of an application submitted in 2015 by Antelope Coal, LLC (Antelope) to lease the Federal coal in the West Antelope III coal tract. The tract is located in Converse and Campbell counties and is near the Antelope Mine, approximately 20 miles south of Wright, Wyoming. The EIS analyzes and discloses the potential impacts of issuing the coal lease.

Antelope originally applied for the tract in accordance with 43 CFR part 3420 subpart 3425 to extend the life of the existing Antelope Mine. The Powder River Regional Coal Team reviewed the LBA at a public meeting on January 27, 2017, and recommended the BLM process the application. A notice of intent was published on July 28, 2017 (82 FR 35237), initiating a public scoping period that ended September 29, 2017. A public meeting was held in Wright, Wyoming, on September 20, 2017. NTEC acquired the Antelope Mine as part of a larger acquisition of assets in May 2021.

The application filed by Antelope contains approximately 300 million tons of in-place Federal coal underlying the following lands in Converse and Campbell counties, Wyoming:

Sixth Principal Meridian, Wyoming

T. 41 N., R. 71 W.,

Sec. 8;

Sec 9, lots 1 through 8;

Sec 10, Lot 5;

Secs. 17 and 19;

Sec 20, lots 1 thru 13;

Sec 29, Lots 4, 5, 12, and 13;

Sec 30, lots 5 thru 16.

The areas described aggregate 3,508.31 acres, according to the surveys on file with the BLM.

Through this notice, the BLM is inviting the public to provide comments regarding any factors that may affect the determinations of the FMV and MER.

Any proprietary information or data that you submit to the BLM must be marked as confidential and mailed directly to the BLM Wyoming State Office, Attention: Alfred Elser (see FOR FURTHER INFORMATION CONTACT) to assure the data will be treated in accordance with the applicable laws and regulations governing the confidentiality of such information or data. A copy of the comments submitted by the public on the FMV and MER for the tracts, except those portions identified as proprietary and that meet one of the exemptions in the Freedom of Information Act, will be available for public inspection at the BLM Wyoming State Office (see FOR FURTHER INFORMATION CONTACT), during regular business hours (8 a.m. to 4:30 p.m.), Monday through Friday, except Federal holidays.

Before including your address, phone number, email address, or other personal identifying information in your comment, you should be aware that your entire comment—including your personal identifying information—may be made publicly available at any time. While you can ask us in your comment to withhold your personal identifying information from public review, the BLM cannot guarantee that we will be able to do so.

(Authority: 43 CFR 3425.3 and 3425.4)

Kristina Kirby,
State Director (Acting) BLM Wyoming.

[FR Doc. 2025-16096 Filed 8-21-25; 8:45 am]

BILLING CODE 4331-26-P